DEPARTMENT OF COMMERCE

National Oceanic and Atmospheric Administration

RIN 0648-XL35

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene a public meeting of the Texas Habitat Protection Advisory Panel (AP).

DATES: The meeting will convene at 9 a.m. on Thursday, November 6, 2008 and conclude no later than 4 p.m.

ADDRESSES: This meeting will be held at the Quality Inn Hobby Airport, 7775 Airport Blvd., Houston, TX 77061, telephone: (713) 644-3800.

Council address: Gulf of Mexico Fishery Management Council, 2203 North Lois Avenue, Suite 1100, Tampa, FL 33607.

FOR FURTHER INFORMATION CONTACT: Jeff Rester, Habitat Support Specialist, Gulf States Marine Fisheries Commission; telephone: (228) 875-5912.

SUPPLEMENTARY INFORMATION: At this meeting, the AP will tentatively discuss juvenile red snapper habitat utilization, the Coastal Bend Bays and Estuaries Program, issues facing the Texas oyster fishery, the spotted sea trout consumption advisory for Galveston Bay, Hurricane Ike impacts to habitat, an update on the deepening of the Matagorda Ship Channel, and the Old River Cove Restoration project.

The Texas group is part of a three unit Habitat Protection Advisory Panel (AP) of the Gulf of Mexico Fishery Management Council. The principal role of the advisory panels is to assist the Council in attempting to maintain optimum conditions within the habitat and ecosystems supporting the marine resources of the Gulf of Mexico. Advisory panels serve as a first alert system to call to the Council's attention proposed projects being developed and other activities which may adversely impact the Gulf marine fisheries and their supporting ecosystems. The panels may also provide advice to the Council on its policies and procedures for addressing environmental affairs.

Although other issues not on the agenda may come before the panel for discussion, in accordance with the Magnuson-Stevens Fishery Conservation and Management Act, those issues may not be the subject of formal panel action during this meeting. Panel action will be restricted to those issues specifically identified in the agenda listed as available by this notice.

A copy of the agenda can be obtained by calling (813) 348-1630.

Special Accommodations

This meeting is physically accessible to people with disabilities. Requests for sign language interpretation or other auxiliary aids should be directed to Tina O'Hern at the Council (see ADDRESSES) at least 5 working days prior to the meeting.

Dated: October 16, 2008.
Tracey L. Thompson,
Acting Director, Office of Sustainable Fisheries, National Marine Fisheries Service.

[FR Doc. E8-25009 Filed 10-20-08; 8:45 am]

BILLING CODE 3510-22-S